DEPARTMENT OF COMMERCE

Foreign-Trade Zones Board

[B-87-2016]

Foreign-Trade Zone (FTZ) 87—Lake Charles, Louisiana; Notification of Proposed Production Activity; Westlake Chemical Corporation; Subzone 87F (Polyethylene and Styrene); Sulphur, Louisiana

Westlake Chemical Corporation (Westlake) submitted a notification of proposed production activity to the FTZ Board for its facilities within Subzone 87F in Sulphur, Louisiana. The notification conforming to the requirements of the regulations of the FTZ Board (15 CFR 400.22) was received on December 16, 2016.

The Westlake facilities are used for the production of petrochemicals, including polyethylene and styrene. Pursuant to 15 CFR 400.14(b), FTZ activity would be limited to the specific foreign-status materials and components and specific finished products described in the submitted notification (as described below) and subsequently authorized by the FTZ Board.

Production under FTZ procedures could exempt Westlake from customs duty payments on the foreign-status components used in export production. On its domestic sales, Westlake would be able to choose the duty rates during customs entry procedures that apply to low density polyethylene, linear low density polyethylene and styrene (duty rates range from free to 6.5%) for the foreign-status inputs noted below. Customs duties also could possibly be deferred or reduced on foreign-status production equipment.

The components and materials sourced from abroad include 1-hexene, benzene, and BHEB-(2,6-Di-t-butyl-4-ethyl phenol) (duty rates range from free to 5.5%).

Public comment is invited from interested parties. Submissions shall be addressed to the FTZ Board's Executive Secretary at the address below. The closing period for their receipt is February 14, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: December 28, 2016.
Elizabeth Whiteman,
Acting Executive Secretary.

[FR Doc. 2016-32028 Filed 1-4-17; 8:45 am]

BILLING CODE 3510-DS-P